GENERAL SERVICES ADMINISTRATION

41 CFR Part 102-5, 102-36, 102-38, 102-40, 102-41, and 102-42

[Notice-MA-2025-07; Docket No. 2025-0002; Sequence 5]

Federal Management Regulation; Updating the Federal Management Regulation (FMR) With Diversity, Equity, Inclusion, and Accessibility Language; Planned Rescission

AGENCY: Office of Government-wide Policy (OGP); General Services Administration (GSA).

ACTION: Notification of partial planned recission of FMR Case 2024-01.

SUMMARY: GSA will be issuing a final rule partly rescinding the Federal Management Regulation (FMR) Case 2024-01, “Updating the Federal Management Regulation (FMR) with Diversity, Equity, Inclusion, and Accessibility Language,” published on August 22, 2024.

DATES: April 16, 2025.

ADDRESSES: Those interested may view FMR Case 2024-01 at https://www.regulations.gov/document/GSA-FMR-2024-0015-0001.

FOR FURTHER INFORMATION CONTACT: Mr. William Garrett, Director, Personal Property Policy Division, Office of Asset and Transportation Management, Office of Government-wide Policy, at 202-368-8163 or email at william.garrett@gsa.gov. Please cite Notice of Partial Rescission of FMR Case 2024-01.

SUPPLEMENTARY INFORMATION: GSA plans to rescind portions of FMR Case 2024-01 (FR Doc. 2024-18460 (89 FR 67865, August 22, 2024)) consistent with Executive Order (E.O.) 14148 of January 20, 2025 entitled “Initial Rescissions of Harmful Executive Orders and Actions” and E.O. 14168 of January 20, 2025 entitled “Defending Women from Gender Ideology Extremism and Restoring Biological Truth to the Federal Government”. GSA will amend FMR parts 102-5 and 102-33 through 102-42 to replace non-gendered pronouns with gendered pronouns and to remove diversity, equity, and inclusion language inserted by the previous administration.

Larry Allen,
Associate Administrator, Office of Government-wide Policy.

[FR Doc. 2025-06277 Filed 4-15-25; 8:45 am]

BILLING CODE 6820-14-P